DEPARTMENT OF COMMERCE

National Oceanic and Atmospheric Administration

Agency Information Collection Activities; Submission to the Office of Management and Budget (OMB) for Review and Approval; Comment Request; NOAA Satellite Customer Questionnaire

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 25, 2024, during a 60-day comment period. This notice allows for an additional 30 days for public comments.

Agency: National Oceanic and Atmospheric Administration, Commerce.

Title: NOAA Satellite Customer Questionnaire.

OMB Control Number: 0648-0227.

Form Number(s): None.

Type of Request: Regular submission [extension of a current information collection].

Number of Respondents: 30.

Average Hours per Response: 6 minutes per response.

Total Annual Burden Hours: 3.

Needs and Uses: This request is for extension of a current information collection.

The National Oceanic and Atmospheric Administration (NOAA) operates a minimum of four meteorological satellite imagery transmission systems, two from geostationary operational environmental (GOES) satellites and two from Joint Polar Satellite System (JPSS) satellites. In addition, a commercially broadcast data stream and legacy/backup/standby polar-orbiting satellites continue to be operated as their health permits. The data transmitted are available worldwide, and any user can establish a ground receiving station for reception of the data without the prior consent, notification, or other approval from NOAA. With such an open access policy, it is currently not possible to have a comprehensive understanding of the range and numbers of the data users and application of the data received and/or used. The purpose of collecting the information contained in the “Questionnaire” is to satisfy the following objectives: (1) To comply with international agreements such as the Department of Commerce (DOC)/NOAA's memorandum of understanding (MOU) with the World Meteorological Organization (WMO), so that NOAA can provide environmental satellite data and processed satellite data products to the public domain, and (2) To improve Government efficiencies of data dissemination using cost-saving technologies to minimize the expenditure of personnel and financial resources. The NOAA Policy on Partnerships in the Provision of Environmental Information is also pertinent to this information collection. This policy was developed to strengthen the partnership among government, academia, and the private sector, which provides the nation with high quality environmental information.

The collection of information from a respondent is initiated when an individual contacts National Environmental Satellite, Data, and Information Service (NESDIS) via letter, telephone, fax or email, or when they visit a web page. If the nature of the contact indicates the individual may operate a satellite receiving station for the acquisition of NOAA satellite data or may use NOAA satellite data or services, the individual is requested to complete an on-line electronic questionnaire, which is found on a NOAA internet site. The questionnaire is completed at the respondent's discretion. The information received is used by NOAA for short-term operations and long-term planning. Collection of this data assists in complying with the terms of the MOU with the WMO, MOU with DOC, and NOAA on areas of common interest and other international agreements.

Affected Public: Federal government, Not-for-profit institutions.

Frequency: Once.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0227.

Sheleen Dumas,
Departmental PRA Clearance Officer, Office of the Under Secretary for Economic Affairs, Commerce Department.

[FR Doc. 2024-25176 Filed 10-29-24; 8:45 am]

BILLING CODE 3510-HR-P